DEPARTMENT OF ENERGY

Federal Energy Regulatory Commission

Combined Notice of Filings #1

Take notice that the Commission received the following electric corporate filings:

Docket Numbers: EC19-53-000.

Applicants: Exelon Wind 4, LLC.

Description: Application for Authorization Under Section 203 of the Federal Power Act, et al. of Exelon Wind 4, LLC under EC19-53.

Filed Date: 2/8/19.

Accession Number: 20190208-5099.

Comments Due: 5 p.m. ET 3/1/19.

Take notice that the Commission received the following electric rate filings:

Docket Numbers: ER19-1015-000.

Applicants: Midcontinent Independent System Operator, Inc.

Description: § 205(d) Rate Filing: 2019-02-08_SA 2985 MidAmerican-MidAmerican 1st Rev GIA (J499) to be effective 1/25/2019.

Filed Date: 2/8/19.

Accession Number: 20190208-5027.

Comments Due: 5 p.m. ET 3/1/19.

Docket Numbers: ER19-1016-000.

Applicants: Midcontinent Independent System Operator, Inc.

Description: § 205(d) Rate Filing: 2019-02-08_SA 2963 MidAmerican-MidAmerican 1st Rev GIA (J498) to be effective 1/25/2019.

Filed Date: 2/8/19.

Accession Number: 20190208-5030.

Comments Due: 5 p.m. ET 3/1/19.

Docket Numbers: ER19-1017-000.

Applicants: Midcontinent Independent System Operator, Inc.

Description: § 205(d) Rate Filing: 2019-02-08_SA 3061 MidAmerican-MidAmerican 1st Rev GIA (J475 J555) to be effective 1/25/2019.

Filed Date: 2/8/19.

Accession Number: 20190208-5032.

Comments Due: 5 p.m. ET 3/1/19.

Docket Numbers: ER19-1018-000.

Applicants: Lower Mount Bethel Energy, LLC.

Description: Tariff Cancellation: Notice of Cancellation to be effective 2/9/2019.

Filed Date: 2/8/19.

Accession Number: 20190208-5082.

Comments Due: 5 p.m. ET 3/1/19.

Docket Numbers: ER19-1019-000.

Applicants: Central Maine Power Company.

Description: Tariff Cancellation: Notice of Termination of Small Generator Interconnection Agreement with Sparhawk to be effective 1/17/2019.

Filed Date: 2/8/19.

Accession Number: 20190208-5091.

Comments Due: 5 p.m. ET 3/1/19.

Docket Numbers: ER19-1020-000.

Applicants: ITC Midwest LLC.

Description: § 205(d) Rate Filing: Filing of Joint Use Pole Agreement with Northeast Missouri Electric Power Coop to be effective 5/19/2017.

Filed Date: 2/8/19.

Accession Number: 20190208-5092.

Comments Due: 5 p.m. ET 3/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2019.
Nathaniel J. Davis, Sr.,
Deputy Secretary.

[FR Doc. 2019-02498 Filed 2-14-19; 8:45 am]

BILLING CODE 6717-01-P